OFFICE OF MANAGEMENT AND BUDGET

2010 Standard Occupational Classification (SOC)—OMB's Final Decisions

AGENCY: Office of Management and Budget, Executive Office of the President.

ACTION: Notice of the Office of Management and Budget's Final Decisions for the 2010 Standard Occupational Classification.

SUMMARY: Under the authority of the Budget and Accounting Procedures Act of 1950 (31 U.S.C. 1104(d)) and the Paperwork Reduction Act of 1995 (44 U.S.C. 3504(e)), the Office of Management and Budget (OMB) is presenting in this notice its final decisions for revising the 2000 Standard Occupational Classification (SOC) for 2010.

The SOC is designed to reflect the current occupational structure of the United States; it classifies all occupations in which work is performed for pay or profit. The SOC covers all jobs in the national economy, including occupations in the public, private, and military sectors. All Federal agencies that publish occupational data for statistical purposes are required to use the SOC; State and local government agencies are strongly encouraged to use this national system to promote a common language for categorizing and analyzing occupations.

In two prior Federal Register notices regarding the 2010 SOC (May 16, 2006, 71 FR 28536-28538; and May 22, 2008, 73 FR 29930-29939), OMB and its interagency Standard Occupational Classification Policy Committee (SOCPC) requested comment on the revision process, classification principles and guidelines, corrections to the 2000 SOC Manual, the intention to retain the 2000 SOC Major Group structure, and changes to the existing occupations. OMB, in conjunction with the SOCPC, reviewed and carefully considered the comments received in response to these notices in the process of making its final decisions presented in this notice. Based on these final decisions, OMB has requested that the SOCPC prepare the 2010 Standard Occupational Classification Manual for publication. A complete crosswalk between the 2000 and the 2010 SOC will be available online after publication of the 2010 SOC Manual. Committee members have completed definitions and agencies with occupational classification systems are developing crosswalks from their existing systems to the 2010 SOC.

In comparison to the 2000 SOC, the 2010 SOC realized a net gain of 19 detailed occupations, 12 broad occupations, and 1 minor group. The number of major groups is unchanged. The 2010 SOC system contains 840 detailed occupations, aggregated into 461 broad occupations. In turn, the SOC combines these 461 broad occupations into 97 minor groups and 23 major groups. More than 400 of the 840 detailed occupations in the 2010 SOC structure remained the same as in 2000, and over 300 others required only editing changes. Therefore, no substantive changes occurred in occupational coverage for about 4 out of 5 detailed occupations in the 2010 SOC.

As an indicator of the scope of changes to the structure of the SOC, 8 detailed occupations moved from one major group in the 2000 SOC to another in the 2010 SOC. Three occupations were placed in the major group 13-0000 Business and Financial Operations Occupations, including “Farm Labor Contractors” (13-1074)—previously classified in major group 45-0000 Farming, Fishing, and Forestry Occupations—and “Fundraisers” (13-1131)—previously classified in major group 41-0000 Sales and Related Occupations. Workers in “Market Research Analysts and Marketing Specialists” (13-1161) were previously classified in multiple SOC occupations including in “Market Research Analysts” in major group 19-0000 Life, Physical, and Social Science Occupations and in “Public Relations Specialists” in major group 27-0000 Arts, Design, Entertainment, Sports, and Media Occupations. Two occupations moved into the major group 53-0000 Transportation and Material Moving Occupations, both from major group 39-0000 Personal Care and Service Occupations. These were “Flight Attendants” (53-2031) and “Transportation Attendants, Except Flight Attendants” (53-6061). Workers in the newly created “Morticians, Undertakers, and Funeral Directors” (39-4031) were previously classified with “Funeral Directors” (11-9061) in the major group 11-0000 Management Occupations. Workers in another occupation new to the 2010 SOC, “Solar Photovoltaic Installers” (47-2231) were previously classified in multiple SOC occupations including two in major group 49-0000 Installation, Maintenance, and Repair Occupations, “Heating, Air Conditioning, and Refrigeration Mechanics and Installers” (49-9021) and “Installation, Maintenance, and Repair Workers, All Other” (49-9099). Lastly, the detailed occupation “Emergency Management Directors” (11-9161) was previously classified in major group 13-0000 Business and Financial Operations Occupations, under the title “Emergency Management Specialists.”

Future activities: To ensure that the successful efforts of the SOCPC continue and that the SOC reflects the structure of the changing workforce, the SOCPC will continue its service as a standing committee. The SOCPC will meet periodically to monitor the implementation of the 2010 SOC across Federal agencies. This consultation will include regularly scheduled interagency communication to ensure a smooth transition to the 2010 SOC. The SOCPC will also perform SOC maintenance functions, such as recommending clarifications of the SOC occupational definitions, placement of new occupations within the existing structure, and updating title files.

The next major review and revision of the SOC is expected to begin in 2013, in preparation for a 2018 SOC. The intent of this revision schedule is to minimize disruption to data providers, producers, and users by promoting simultaneous adoption of revised occupational and industry classification systems for those data series that use both. Given the multiple interdependent programs that rely on the SOC, this is best accomplished by timing revisions of the SOC for the years following North American Industry Classification System (NAICS) revisions, which occur for years ending in 2 and 7. The next such year is 2018, which has the additional benefit of coinciding with the beginning year of the American Community Survey five-year set of surveys that bracket the 2020 Decennial Census. Thus, OMB intends to consider revisions of the SOC for 2018 and every 10 years thereafter.

Appendices: This notice includes three appendices in the SUPPLEMENTARY INFORMATION section below. Appendix A presents the adopted changes to the SOC Classification Principles. Appendix B provides a preliminary crosswalk between the occupation codes in the 2000 SOC and the revised codes for the 2010 SOC. Appendix C provides a preliminary crosswalk between the revised codes for the 2010 SOC and the 2000 SOC. Appendices B and C show only new occupations and occupations where a change was made to a title or code. The complete 2010 SOC structure is available on the Bureau of Labor Statistics Web site at http://www.bls.gov/soc/home.htm.

Electronic Availability: This document is available on the Internet from the Bureau of Labor Statistics at http://www.bls.gov/soc/home.htm. This Web page contains links to previous SOC Federal Register notices and related documents, as well as the full 2010 SOC structure. To obtain this notice via e-mail, please send a message requesting the OMB SOC final decisions Federal Register notice to soc@bls.gov. After publication of the manual, inquiries about the definitions for particular occupations or requests for electronic copies of the SOC structure that cannot be satisfied by use of the Web site should be addressed to Theresa Cosca, Standard Occupational Classification Policy Committee, U.S. Bureau of Labor Statistics, Room 2135, Washington, DC 20212; e-mail: soc@bls.gov; telephone number: (202) 691-6500; fax number: (202) 691-6444.

DATES: Publication of the 2010 Standard Occupational Classification Manual is planned to occur by the end of 2009. Information on how to purchase a manual will be available at http://www.bls.gov/soc/home.htm. Federal statistical agencies will begin using the 2010 SOC for occupational data they publish for reference years beginning on or after January 1, 2010. The 2010 SOC was designed and developed solely for statistical purposes. Use of the SOC for nonstatistical purposes (e.g., for administrative, regulatory, or taxation functions) will be determined and supported by the agency or agencies that have chosen to do so. Readers interested in the effective dates for the use of the 2010 SOC for nonstatistical purposes should contact the relevant agency to determine the agency's plans, if any, for a transition from the 2000 SOC to the 2010 SOC.

ADDRESSES: Correspondence about the adoption and implementation of the SOC as described in this Federal Register notice should be sent to: Katherine K. Wallman, Chief Statistician, Office of Management and Budget, 10201 New Executive Office Building, Washington, DC 20503; telephone number: (202) 395-3093; fax number: (202) 395-7245; e-mail: soc@omb.eop.gov.

FOR FURTHER INFORMATION CONTACT: Paul Bugg, Office of Information and Regulatory Affairs, OMB, 10201 New Executive Office Building, 725 17th Street, NW., Washington, DC 20503; e-mail: pbugg@omb.eop.gov; telephone number: (202) 395-3095; fax number: (202) 395-7245.

SUPPLEMENTARY INFORMATION:

I. Purpose and History of the SOC

The Standard Occupational Classification (SOC) system is used by Federal statistical agencies to classify workers and jobs into occupational categories for the purpose of collecting, tabulating, analyzing, or disseminating data.

The SOC reflects the current occupational structure of the United States; it classifies all occupations in which work is performed for pay or profit. The SOC covers all jobs in the national economy, including occupations in the public, private, and military sectors. All Federal agencies that publish occupational data for statistical purposes are required to use the SOC in order to increase data comparability. State and local government agencies are strongly encouraged to use this national system to promote a common language for categorizing and analyzing occupations.

The SOC Revision for 2010

In 2005, the Office of Management and Budget met with the Standard Occupational Classification Policy Committee (SOCPC) to plan for the 2010 SOC revision. The SOCPC includes representatives from the Department of Labor's Bureau of Labor Statistics and Employment and Training Administration, the Department of Commerce's Census Bureau, the Department of Defense's Defense Manpower Data Center, the Department of Education, the Department of Health and Human Services, the Equal Employment Opportunity Commission, the National Science Foundation, the Office of Personnel Management, and, ex officio, the Office of Management and Budget.

To initiate the formal 2010 SOC revision process, OMB and the SOCPC requested public comment in a May 16, 2006, Federal Register notice (71 FR 28536) on: (1) The Standard Occupational Classification principles, (2) corrections to the 2000 SOC Manual, (3) the intention to retain the current SOC Major Group structure, (4) changes to the existing detailed occupations, and (5) new detailed occupations to be added to the revised 2010 SOC. To carry out the bulk of the revision effort, the committee created six work groups to examine occupations in the following high-level aggregations of SOC major groups: Management, Professional, and Related Occupations (codes 11-0000 through 29-0000); Service Occupations (codes 31-0000 through 39-0000); Sales and Office Occupations (codes 41-0000 through 43-0000); Natural Resources, Construction, and Maintenance Occupations (codes 45-0000 through 49-0000); Production, Transportation, and Material Moving Occupations (codes 51-0000 through 53-0000) and Military Specific Occupations (code 55-0000).

The work groups were charged with reviewing the hundreds of comments received in response to the May 16, 2006, Federal Register notice and providing recommendations to the SOCPC. Guided by the classification principles, the SOCPC reviewed the recommendations from the work groups and reached decisions by consensus. Those recommendations were published in a subsequent Federal Register notice published on May 22, 2008 (73 FR 29930).

In the May 22, 2008, Federal Register notice (73 FR 29930), OMB and the SOCPC requested public comment on (1) The SOC Classification Principles and SOC Coding Guidelines recommended by the SOCPC; (2) the SOCPC's recommended changes to titles and codes of occupations from the 2000 SOC; (3) the SOCPC's recommended changes to the hierarchical structure of the SOC, including changes to major, minor, broad, and detailed groups and occupations; and (4) the titles, placement, and codes of new occupations that the SOCPC recommended adding to the revised 2010 SOC.

II. Significant Changes and Responses to Comments

Significant Changes in the 2010 SOC

In response to the May 22, 2008, Federal Register notice, OMB and the SOCPC received over 1,200 public comments. OMB and the SOCPC considered all comments and made many changes to the structure that was presented in the May 22, 2008 notice. Discussions of the changes to the Classification Principles and the changes by major group are provided below. The changes to the hierarchical structure and numbering system are shown in Appendices B and C. Rationales for recommending changes in response to specific comments are provided in conjunction with this Federal Register notice.

Two changes to the SOC Classification Principles were proposed in the May 22, 2008, Federal Register notice. Classification Principle 3 now clarifies that workers in management occupations may also supervise other workers. A new Classification Principle 5 was created to clarify that workers in Major Group 31-0000 Healthcare Support Occupations are usually supervised by workers in Major Group 29-0000 Healthcare Practitioners and Technical Occupations. The 2010 Standard Occupational Classification Manual will also include Coding Guidelines as presented in the May 22, 2008, Federal Register notice.

In the Management Occupations major group, the definition of “Administrative Services Managers” (11-3011) was modified.

In the Business and Financial Operations Occupations major group, the title and definition of “Labor Relations Specialists” (13-1075, formerly 13-1079 in the structure presented in the May 22, 2008, Federal Register notice) were modified. The title “Meeting and Convention Planners” was changed to “Meeting, Convention, and Event Planners” (13-1121). The definition of “Claims Adjusters, Examiners, and Investigators” (13-1031) was modified.

In the Computer and Mathematical Occupations major group, the proposed broad occupation “Software and Web Developers and Computer Analysts” was disaggregated: (1) Into two broad occupations, “Computer and Information Analysts” (15-1120) and “Software Developers and Programmers” (15-1130); (2) the detailed occupation “Software Developers” was disaggregated into “Software Developers, Applications” (15-1132) and “Software Developers, Systems Software” (15-1133); and (3) the detailed occupation “Computer Programmers” (15-1131) was moved to the broad occupation, “Software Developers and Programmers” (15-1130). The titles for “Computer and Information Research Scientists” (15-1111), “Database Administrators” (15-1141), and “Computer Network Support Specialists” (15-1152) were modified. “Web Technicians” and “Software and Web Developers and Computer Analysts, All Other” were deleted as detailed occupations and the detailed occupation “Computer Network Architects” (15-1143) was added to the revised 2010 SOC.

In the Architecture and Engineering Occupations major group, the definitions of “Mechanical Engineering Technicians” (17-3027), “Industrial Engineering Technicians” (17-3026), and “Electro-Mechanical Technicians” (17-3024) were modified.

In the Life, Physical, and Social Science Occupations major group, no significant changes were made to the structure presented in the May 22, 2008, Federal Register notice.

In the Community and Social Service Occupations major group, the title of “Health Educators and Community Health Workers” was changed to “Health Educators (21-1091) and the definition was modified. A new detailed occupation “Community Health Workers” (21-1094) was added. The existing detailed occupation “Health Care Social Workers” was retitled “Healthcare Social Workers” (21-1022).

In the Legal Occupations major group, no significant changes were made to the structure presented in the May 22, 2008, Federal Register notice.

In the Education, Training, and Library Occupations major group, the definitions of “Forestry and Conservation Science Teachers, Postsecondary” (25-1043) and “Health Specialties Teachers, Postsecondary” (25-1071) were modified.

In the Arts, Design, Entertainment, Sports, and Media Occupations major group, no significant changes were made to the structure presented in the May 22, 2008, Federal Register notice.

In the Healthcare Practitioners and Technical Occupations major group, “Hearing Aid Specialists” (29-2092) and “Genetic Counselors” (29-9092) were added to the revised 2010 SOC, the definition for “Veterinarians” (29-1131) was modified, and the title of “Radiologic Technologists and Technicians” was changed to “Radiologic Technologists” (29-2034). The codes for “Registered Nurses” (29-1141), “Nurse Anesthetists” (29-1151), “Nurse Practitioners” (29-1171), and “Audiologists” (29-1181) were modified.

In the Healthcare Support Occupations major group, “Nursing Aides, Orderlies, and Attendants” was disaggregated into “Nursing Assistants” (31-1014) and “Orderlies” (31-1015). The definitions for “Home Health Aides” (31-1011) and “Medical Transcriptionists” (31-9094) were modified.

In the Protective Service Occupations major group, the titles for “First-Line Supervisors of Correctional Officers” (33-1011), “First-Line Supervisors of Police and Detectives” (33-1012), “First-Line Supervisors of Fire Fighting and Prevention Workers” (33-1021), and “First-Line Supervisors of Protective Service Workers, All Other” (33-1099) were modified.

In the Food Preparation and Serving Related Occupations major group, the title for “First-Line Supervisors of Food Preparation and Serving Workers” (35-1012) was modified.

In the Building and Grounds Cleaning and Maintenance Occupations major group, the titles for “First-Line Supervisors of Housekeeping and Janitorial Workers” (37-1011) and “First-Line Supervisors of Landscaping, Lawn Service, and Groundskeeping Workers” (37-1012), and the definition of “Maids and Housekeeping Cleaners” (37-2012) were modified.

In the Personal Care and Service Occupations major group, the minor group “Transportation, Tourism, and Lodging Attendants” was disaggregated into “Baggage Porters, Bellhops, and Concierges” (39-6000) and “Tour and Travel Guides” (39-7000). The title and definition of “Personal Care Aides” (39-9021) were modified. The title of “First-Line Supervisors of Personal Service Workers” (39-1021) and the definition of “Fitness Trainers and Aerobics Instructors” (39-9031) were modified. “Flight Attendants” (53-2031, formerly 39-6031 in the structure presented in the May 22, 2008, Federal Register notice) and “Transportation Attendants, Except Flight Attendants” (53-6061, formerly 39-6032 in the structure presented in the May 22, 2008, Federal Register notice) were moved to the Transportation and Material Moving Occupations major group.

In the Sales and Related Occupations major group, the titles of “First-Line Supervisors of Retail Sales Workers” (41-1011) and “First-Line Supervisors of Non-Retail Sales Workers” (41-1012) were modified.

In the Office and Administrative Support Occupations major group, the title of “First-Line Supervisors of Office and Administrative Support Workers” (43-1011) and the definition of “Couriers and Messengers” (43-5021) were modified.

In the Farming, Fishing, and Forestry Occupations major group, the title of “Farmworkers, Farm and Ranch Animals” was changed to “Farmworkers, Farm, Ranch, and Aquacultural Animals” (45-2093). The title of “First-Line Supervisors of Farming, Fishing, and Forestry Workers” (45-1011) and the definitions of “Forest and Conservation Workers” (45-4011) and “Logging Equipment Operators” (45-4022) were modified. The detailed occupation “Farm Labor Contractors” (13-1074, formerly 45-1012 in the 2000 SOC) was reinstated and moved to the Business and Financial Occupations major group.

In the Construction and Extraction Occupations major group, the detailed occupation “Solar Photovoltaic Installers” (47-2231) was added to the revised 2010 SOC. The title of “First-Line Supervisors of Construction Trades and Extraction Workers” (47-1011) was modified.

In the Installation, Maintenance, and Repair Occupations major group, the detailed occupation “Wind Turbine Service Technicians” (49-9081) was added to the revised 2010 SOC. The title of “First-Line Supervisors of Mechanics, Installers, and Repairers” (49-1011) was modified.

In the Production Occupations major group, the titles and definitions of “Print Binding and Finishing Workers” (51-5113) and “Timing Device Assemblers and Adjusters” (51-2093) were modified. In addition, the definitions of “Sawing Machine Setters, Operators, and Tenders, Wood” (51-7041), “Woodworking Machine Setters, Operators, and Tenders, Except Sawing” (51-7042), “Prepress Technicians and Workers” (51-5111), and “Printing Press Operators” (51-5112) were revised. The title of “First-Line Supervisors of Production and Operating Workers” (51-1011) was modified.

In the Transportation and Material Moving Occupations major group, the titles of “First-Line Supervisors of Helpers, Laborers, and Material Movers, Hand” (53-1021), “First-Line Supervisors of Transportation and Material-Moving Machine and Vehicle Operators” (53-1031), “Heavy and Tractor-Trailer Truck Drivers” (53-3032), “Light Truck or Delivery Services Drivers” (53-3033), and “Automotive and Watercraft Service Attendants” (53-6031) were modified. The definitions of “Light Truck or Delivery Services Drivers” (53-3033) and “Driver/Sales Workers” (53-3031) were also modified.

In the Military Specific Occupations major group, the titles of “Military Officer Special and Tactical Operations Leaders” (55-1010), “Military Officer Special and Tactical Operations Leaders, All Other” (55-1019), “First-Line Enlisted Military Supervisors” (55-2010), “First-Line Supervisors of Air Crew Members” (55-2011), “First-Line Supervisors of Weapons Specialists/Crew Members” (55-2012), and “First-Line Supervisors of All Other Tactical Operations Specialists” (55-2013) were modified.

Responses to Comments

OMB, in conjunction with the SOCPC, received and reviewed over 1,200 public comments on the information presented in the May 22, 2008, Federal Register notice. Each individual comment received a unique docket number when conveyed to the SOCPC secretariat at the Bureau of Labor Statistics. Dockets providing the same or essentially similar comments or suggestions were reviewed simultaneously by the SOCPC. In total, 202 unique issues were identified in commentors' correspondence. A full list of the responses to the comments received in response to the May 22, 2008, Federal Register notice will be provided at http://www.bls.gov/soc/home.htm. Selected topics are also discussed below.

In some cases, OMB's SOCPC recommended changing the 2010 SOC title to more clearly describe the existing content of an occupation. Title changes did not necessarily alter occupational coverage, but rather refined how occupations are described. For example, the SOCPC recommended accepting the suggestion to change the title of “Radiologic Technologists and Technicians” (29-2034) to “Radiologic Technologists.”

The SOCPC frequently found that the work performed by a proposed occupation was already covered in the definition of an existing SOC occupation. For example, the SOCPC did not recommend accepting the request for a new detailed occupation, “Clinical Nurse Specialists.” The SOCPC researched the topic and determined that even though education for Clinical Nurse Specialists is different from that of Registered Nurses, the tasks of Clinical Nurse Specialists are not sufficiently unique from those of Registered Nurses who “assess patient health problems and needs, develop and implement nursing care plans, and maintain medical records.”

The SOCPC carefully analyzed over 80 unique suggestions regarding “green” occupations and considered these recommendations from the perspective of the classification principles of the SOC. In many cases, the work performed in the “green” job was identical or similar to work performed in existing SOC occupations. For example, the work performed by a “Sustainable Landscape Architect” is already included in the SOC definition for “Landscape Architects” (17-1012). The SOCPC did recommend adding “Wind Turbine Service Technicians” (49-9081) and “Solar Photovoltaic Installers” (47-2231) to the revised 2010 SOC. Workers in both of these occupations perform tasks that are sufficiently distinct from tasks in existing SOC occupations, and analysis of reports provided by the U.S. Department of Energy and the California Employment Development Department, Labor Market Information Division provided evidence supporting the collectability of data on these proposed occupations.

In cases involving requests for occupations already covered in the existing SOC, the SOCPC often altered definitions and titles of existing SOC occupations to clarify where the workers specified in a particular comment should be classified. One example involves the many requests the SOCPC received to add one or more metrology-related occupations. The SOCPC's research found that the number of workers performing metrology and calibration tasks as their primary activity is not substantial enough to support new detailed occupations, and that metrology occupations are dispersed across many industries. Although there is no minimum required employment number, from a practical standpoint, occupations must be large enough to collect and publish at national, regional, State, and local levels. The current definitions of Engineers and Engineering Technicians meet those “publishability” goals. In contrast, metrology and calibration tasks may be performed by workers in several Engineering and Engineering Technician occupations, and calibrating is often a task performed in conjunction with other tasks. Therefore the definitions and titles for various engineers, engineering technicians, and production workers were modified to clarify coverage of metrology and calibration tasks.

In the May 22, 2008, Federal Register notice, the SOCPC proposed expanding the occupation, “Health Educator” to include “Community Health Workers.” OMB received multiple comments from individuals and associations expressing concern over the differences in work performed, skills, and education and training between these two occupations. The SOCPC concurred with the commentors and recommended two separate detailed occupations for “Community Health Workers” (21-1094) and “Health Educators” (21-1091) in the 2010 SOC. The work performed in these occupations is sufficiently distinct. Health Educators collect and analyze data, as well as plan, implement, monitor, evaluate, and manage health education programs. Community Health Workers conduct outreach for medical personnel or health organizations and may provide information on available resources.

OMB received multiple comments requesting the addition of “Medical Staff Services Professionals” as a new detailed occupation within the major group 11-0000 Management Occupations. The SOCPC did not accept this recommendation because it violates Classification Principles 2 and 3. As explained in Classification Principle 2, the organization of the SOC is determined by a focus on work performed. The commentors describe specialized functions or tasks performed in this proposed occupation that are sufficiently covered in existing human resources and compliance occupations. Classification Principle 3 excludes workers in this proposed occupation from Major Group 11-0000 because management occupations “primarily engage in planning and directing.”

Multiple commentors requested moving “Dental Hygienists” (29-2021) from the minor group 29-2000 Health Technologists and Technicians to the minor group 29-1000 Health Diagnosing and Treating Practitioners. Commentors noted that in some States, dental hygienists can practice independently and can make initial patient diagnoses without supervision by dentists. The SOCPC did not accept this recommendation because the lack of uniformity across various State and local jurisdictions would prevent consistent occupational classification. In addition, SOC definitions describe unique tasks all workers in an occupation must perform in order to be classified in that occupation. Expanding definitions to include additional tasks performed by only some of the workers in an occupation restricts inclusion in that occupation.

III. Next Steps in the Process

Future revisions. The next major review and revision of the SOC is expected to begin in 2013, in preparation for a 2018 SOC. The SOCPC recognizes the many advantages to coordinating implementation of SOC revisions with North American Industry Classification System (NAICS) revisions. The intent of this coordination is to minimize disruption to data providers, producers, and users by promoting simultaneous adoption of revised occupational and industry classification systems. Given the multiple interdependent programs that rely on the SOC, this is best accomplished by timing SOC revisions for the year following NAICS revisions. NAICS revisions occur in years ending in 2 and 7. Thus, OMB intends to consider revisions of the SOC for 2018 and every 10 years thereafter. In between revisions, the SOCPC will meet periodically to perform SOC maintenance functions and to monitor and help coordinate implementation of the 2010 SOC across Federal agencies.

Direct Match Title File. The SOCPC will continue to consult with OMB after publication of the 2010 SOC Manual, particularly to consider new and emerging occupations and additional titles for the newly created Direct Match Title File. The Direct Match Title File lists associated job titles for many detailed SOC occupations. These titles are all one-to-one matches with a single SOC occupation. This means that the job title listed should be classified under that particular SOC code, and it can be used only for that particular SOC code. For example a “Cardiologist” would always be classified in “Physicians and Surgeons, All Other” (29-1079) and excluded from any other SOC code. All Federal agencies using the SOC will adopt the Direct Match Title File, although some may maintain separate program-specific title files. The Direct Match Title File will allow data users to compare occupational information for these job titles across Federal statistical agencies. It is expected that the Direct Match Title File will be available on the SOC Web site in the first half of 2009 at http://www.bls.gov/soc.

Susan E. Dudley,
Acting Administrator, Office of Information and Regulatory Affairs.

Appendix A: Classification Principles

OMB has adopted two changes to the SOC Classification Principles presented in the May 22, 2008, Federal Register notice. In response to a comment, Classification Principle 5 was created to clarify placement of supervisors for workers in Major Group 31-0000 in the revised 2010 SOC. Therefore, Classification Principles 5 through 8, as presented in the May 22, 2008 Federal Register notice, were renumbered. In addition, a sentence was added to Classification Principle 3 to clarify that duties of workers in management occupations may include supervision. The final 2010 SOC Classification Principles are as follows [italics indicate changes to content]:

The SOC Classification Principles form the basis on which the SOC system is structured.

1. The SOC covers all occupations in which work is performed for pay or profit, including work performed in family-operated enterprises by family members who are not directly compensated. It excludes occupations unique to volunteers. Each occupation is assigned to only one occupational category at the lowest level of the classification.

2. Occupations are classified based on work performed and, in some cases, on the skills, education, and/or training needed to perform the work at a competent level.

3. Workers primarily engaged in planning and directing are classified in management occupations in Major Group 11-0000. Duties of these workers may include supervision.

4. Supervisors of workers in Major Groups 13-0000 through 29-0000 usually have work experience and perform activities similar to those of the workers they supervise, and therefore are classified with the workers they supervise.

5. Workers in Major Group 31-0000 Healthcare Support Occupations assist and are usually supervised by workers in Major Group 29-0000 Healthcare Practitioners and Technical Occupations. Therefore, there are no first-line supervisor occupations in Major Group 31-0000.

6. Workers in Major Groups 33-0000 through 53-0000 whose primary duty is supervising are classified in the appropriate first-line supervisor category because their work activities are distinct from those of the workers they supervise.

7. Apprentices and trainees are classified with the occupations for which they are being trained, while helpers and aides are classified separately because they are not in training for the occupation they are helping.

8. If an occupation is not included as a distinct detailed occupation in the structure, it is classified in an appropriate “All Other,” or residual, occupation. “All Other” occupations are placed in the structure when it is determined that the detailed occupations comprising a broad occupation group do not account for all of the workers in the group. These occupations appear as the last occupation in the group with a code ending in “9” and are identified in their title by having “All Other” appear at the end.

9. The U.S. Bureau of Labor Statistics and the U.S. Census Bureau are charged with collecting and reporting data on total U.S. employment across the full spectrum of SOC major groups. Thus, for a detailed occupation to be included in the SOC, either the Bureau of Labor Statistics or the Census Bureau must be able to collect and report data on that occupation.

Appendix B: 2000 SOC to 2010 SOC

Appendix B is a chart listing every detailed occupation from the 2000 SOC that has been revised or replaced, with the preliminary corresponding new code(s) and title(s) appearing in the second column, including changes to only the code or title. An asterisk (*) after the occupation code and title in the second column means that the occupation in the first column makes up only part of the occupation in the second column; that is, the starred 2010 SOC occupation has been created from multiple old codes. Each occupation with the (*) notation appears multiple times in the chart.

A new occupation may have been created by breaking out a group of workers previously classified in a 2000 SOC occupation, but the new occupation may not completely replace the 2000 SOC occupation. In such cases, the 2000 occupation will indicate in italics which group has been removed to create a new occupation.

2000 SOC | 2010 SOC
11-0000 Management Occupations
11-2030 Public Relations Managers | 11-2030 Public Relations and Fundraising Managers.
11-2031 Public Relations Managers | 11-2031 Public Relations and Fundraising Managers.
11-3000 Operations Specialties Managers
11-3040 Human Resources Managers | 11-3120 Human Resources Managers.
| 11-3110 Compensation and Benefits Managers.
| 11-3130 Training and Development Managers.
11-3041 Compensation and Benefits Managers | 11-3111 Compensation and Benefits Managers.
11-3042 Training and Development Managers | 11-3131 Training and Development Managers.
11-3049 Human Resources Managers, All Other | 11-3121 Human Resources Managers.
11-9000 Other Management Occupations
11-9010 Agricultural Managers | 11-9010 Farmers, Ranchers, and Other Agricultural Managers.
11-9011 Farm, Ranch, and Other Agricultural Managers | 11-9013 Farmers, Ranchers, and Other Agricultural Managers.*
11-9012 Farmers and Ranchers | 11-9013 Farmers, Ranchers, and Other Agricultural Managers.*
11-9031 Education Administrators, Preschool and Child Care Center/Program | 11-9031 Education Administrators, Preschool and Childcare Center/Program.
11-9040 Engineering Managers | 11-9040 Architectural and Engineering Managers.
11-9041 Engineering Managers | 11-9041 Architectural and Engineering Managers.
11-9061 Funeral Directors | 11-9061 Funeral Service Managers.
| Except morticians, undertakers, and funeral directors.
| 39-4031 Morticians, Undertakers, and Funeral Directors.
13-0000 Business and Financial Operations Occupations
13-1000 Business Operations Specialists
13-1021 Purchasing Agents and Buyers, Farm Products | 13-1021 Buyers and Purchasing Agents, Farm Products.
13-1040 Compliance Officers, Except Agriculture, Construction, Health and Safety, and Transportation | 13-1040 Compliance Officers.
13-1041 Compliance Officers, Except Agriculture, Construction, Health and Safety, and Transportation | 13-1041 Compliance Officers.
| Except transportation security screeners.
| 33-9093 Transportation Security Screeners.*
13-1060 Emergency Management Specialists | 11-9160 Emergency Management Directors.
13-1061 Emergency Management Specialists | 11-9161 Emergency Management Directors.
13-1070 Human Resources, Training, and Labor Relations Specialists | 13-1070 Human Resources Workers.
| 13-1140 Compensation, Benefits, and Job Analysis Specialists.
| 13-1150 Training and Development Specialists.
13-1071 Employment, Recruitment, and Placement Specialists | 13-1071 Human Resources Specialists.*
13-1072 Compensation, Benefits, and Job Analysis Specialists | 13-1141 Compensation, Benefits, and Job Analysis Specialists.
13-1073 Training and Development Specialists | 13-1151 Training and Development Specialists.
13-1079 Human Resources, Training, and Labor Relations Specialists, All Other | 13-1071 Human Resources Specialists.*
| 13-1075 Labor Relations Specialists.
13-1120 Meeting and Convention Planners | 13-1120 Meeting, Convention, and Event Planners.
13-1121 Meeting and Convention Planners | 13-1121 Meeting, Convention, and Event Planners.*
13-1190 Miscellaneous Business Operations Specialists
13-1199 Business Operations Specialists, All Other | 13-1121 Meeting, Convention, and Event Planners.*
| 13-1161 Market Research Analysts and Marketing Specialists.*
| 13-1199 Business Operations Specialists, All Other.
| Except meeting, convention, and event planners.
| Except market research analysts and marketing specialists.
13-2070 Loan Counselors and Officers | 13-2070 Credit Counselors and Loan Officers.
13-2071 Loan Counselors | 13-2071 Credit Counselors.
13-2081 Tax Examiners, Collectors, and Revenue Agents | 13-2081 Tax Examiners and Collectors, and Revenue Agents.
15-0000 Computer and Mathematical Science Occupations | 15-0000 Computer and Mathematical Occupations.
15-1000 Computer Specialists | 15-1100 Computer Occupations.
15-1010 Computer and Information Scientists, Research | 15-1110 Computer and Information Research Scientists.
15-1011 Computer and Information Scientists, Research | 15-1111 Computer and Information Research Scientists.
15-1020 Computer Programmers
15-1021 Computer Programmers | 15-1131 Computer Programmers.
15-1030 Computer Software Engineers
15-1031 Computer Software Engineers, Applications | 15-1132 Software Developers, Applications.
15-1032 Computer Software Engineers, Systems Software | 15-1133 Software Developers, Systems Software.
15-1040 Computer Support Specialists
15-1041 Computer Support Specialists | 15-1151 Computer User Support Specialists.
15-1050 Computer Systems Analysts
15-1051 Computer Systems Analysts | 15-1121 Computer Systems Analysts.
| 15-1143 Computer Network Architects.*
15-1060 Database Administrators
15-1061 Database Administrators | 15-1141 Database Administrators.
15-1070 Network and Computer Systems Administrators
15-1071 Network and Computer Systems Administrators | 15-1142 Network and Computer Systems Administrators.*
15-1080 Network Systems and Data Communications Analysts |
15-1081 Network Systems and Data Communications Analysts | 15-1122 Information Security Analysts.
| 15-1134 Web Developers.
| 15-1142 Network and Computer Systems Administrators.*
| 115-1143 Computer Network Architects.*
| 15-1152 Computer Network Support Specialists.
15-1090 Miscellaneous Computer Specialists | 15-1190 Miscellaneous Computer Occupations.
15-1099 Computer Specialists, All Other | 15-1199 Computer Occupations, All Other.
17-0000 Architecture and Engineering Occupations
17-3000 Drafters, Engineering, and Mapping Technicians | 17-3000 Drafters, Engineering Technicians, and Mapping Technicians.
19-0000 Life, Physical, and Social Science Occupations
19-3000 Social Scientists and Related Workers
19-3020 Market and Survey Researchers | 19-3020 Survey Researchers.
| 13-1160 Market Research Analysts and Marketing Specialists.
19-3021 Market Research Analysts | 13-1161 Market Research Analysts and Marketing Specialists.*
21-0000 Community and Social Services Occupations | 21-0000 Community and Social Service Occupations.
21-1000 Counselors, Social Workers, and Other Community and Social Service Specialists
21-1012 Educational, Vocational, and School Counselors | 21-1012 Educational, Guidance, School, and Vocational Counselors.
21-1022 Medical and Public Health Social Workers | 21-1022 Healthcare Social Workers.
21-1090 Miscellaneous Community and Social Service Specialists
21-1091 Health Educators | 21-1091 Health Educators.
| Except community health workers.
| 21-1094 Community Health Workers.*
21-1099 Community and Social Service Specialists, All Other | 21-1099 Community and Social Service Specialists, All Other.
| Except community health workers.
| 21-1094 Community Health Workers.*
23-0000 Legal Occupations
23-1000 Lawyers, Judges, and Related Workers
23-1010 Lawyers | 23-1010 Lawyers and Judicial Law Clerks.
23-2090 Miscellaneous Legal Support Workers
23-2092 Law Clerks | 23-1012 Judicial Law Clerks.
| 23-2011 Paralegals and Legal Assistants.
25-0000 Education, Training, and Library Occupations
25-2000 Primary, Secondary, and Special Education School Teachers | 25-2000 Preschool, Primary, Secondary, and Special Education School Teachers.
25-2020 Elementary and Middle School Teachers
25-2022 Middle School Teachers, Except Special and Vocational Education | 25-2022 Middle School Teachers, Except Special and Career/Technical Education.
25-2023 Vocational Education Teachers, Middle School | 25-2023 Career/Technical Education Teachers, Middle School.
25-2030 Secondary School Teachers
25-2031 Secondary School Teachers, Except Special and Vocational Education | 25-2031 Secondary School Teachers, Except Special and Career/Technical Education.
25-2032 Vocational Education Teachers, Secondary School | 25-2032 Career/Technical Education Teachers, Secondary School.
25-2040 Special Education Teachers | 25-2050 Special Education Teachers.
25-2041 Special Education Teachers, Preschool, Kindergarten, and Elementary School | 25-2051 Special Education Teachers, Preschool.
| 25-2052 Special Education Teachers, Kindergarten and Elementary School.
25-2042 Special Education Teachers, Middle School | 25-2053 Special Education Teachers, Middle School.
25-2043 Special Education Teachers, Secondary School | 25-2054 Special Education Teachers, Secondary School.
25-3000 Other Teachers and Instructors
25-3010 Adult Literacy, Remedial Education, and GED Teachers and Instructors | 25-3010 Adult Basic and Secondary Education and Literacy Teachers and Instructors.
25-3011 Adult Literacy, Remedial Education, and GED Teachers and Instructors | 25-3011 Adult Basic and Secondary Education and Literacy Teachers and Instructors.
25-3090 Miscellaneous Teachers and Instructors
25-3099 Teachers and Instructors, All Other | 25-3099 Teachers and Instructors, All Other.
| Except all other special education teachers.
| 25-2059 Special Education Teachers, All Other.
25-9010 Audio-Visual Collections Specialists | 25-9010 Audio-Visual and Multimedia Collections Specialists.
25-9011 Audio-Visual Collections Specialists | 25-9011 Audio-Visual and Multimedia Collections Specialists.
27-0000 Arts, Design, Entertainment, Sports, and Media Occupations
27-3030 Public Relations Specialists
27-3031 Public Relations Specialists | 13-1121 Meeting, Convention, and Event Planners.*
| 13-1161 Market Research Analysts and Marketing Specialists.*
| 27-3031 Public Relations Specialists.
| Except meeting, convention, and event planners.
| Except market research analysts and marketing specialists.
27-1014 Multi-Media Artists and Animators | 27-1014 Multimedia Artists and Animators.
29-0000 Healthcare Practitioner and Technical Occupations
29-1000 Health Diagnosing and Treating Practitioners
29-1110 Registered Nurses
29-1111 Registered Nurses | 29-1141 Registered Nurses.
| Except nurse anesthetists, nurse practitioners, and nurse midwives.
| 29-1151 Nurse Anesthetists.
| 29-1161 Nurse Midwives.
| 29-1171 Nurse Practitioners.
29-1120 Therapists
29-1121 Audiologists | 29-1181 Audiologists.
29-1129 Therapists, All Other | 29-1129 Therapists, All Other.
| Except exercise physiologists.
| 29-1128 Exercise Physiologists.
29-2000 Health Technologists and Technicians
29-2030 Diagnostic Related Technologists and Technicians
29-2034 Radiologic Technologists and Technicians | 29-2034 Radiologic Technologists.
| Except magnetic resonance imaging technologists.
| 29-2035 Magnetic Resonance Imaging Technologists.
29-2050 Health Diagnosing and Treating Practitioner Support Technicians | 29-2050 Health Practitioner Support Technologists and Technicians.
29-2090 Miscellaneous Health Technologists and Technicians
29-2099 Health Technologists and Technicians, All Other | 29-2099 Health Technologists and Technicians, All Other.
| Except ophthalmic medical technicians.
| Except hearing aid specialists.
| 29-2057 Ophthalmic Medical Technicians.
| 29-2092 Hearing Aid Specialists.
29-9000 Other Healthcare Practitioner and Technical Occupations | 29-9000 Other Healthcare Practitioners and Technical Occupations.
29-9090 Miscellaneous Healthcare Practitioner and Technical Workers | 29-9090 Miscellaneous Healthcare Practitioners and Technical Workers.
29-9099 Healthcare Practitioners and Technical Workers, All Other | 29-9099 Healthcare Practitioners and Technical Workers, All Other.
| Except genetic counselors.
| 29-9092 Genetic Counselors.
31-0000 Healthcare Support Occupations
31-1000 Nursing, Psychiatric, and Home Health Aides
31-1010 Nursing, Psychiatric, and Home Health Aides
31-1012 Nursing Aides, Orderlies, and Attendants | 31-1014 Nursing Assistants.
| 31-1015 Orderlies.
31-2000 Occupational and Physical Therapist Assistants and Aides | 31-2000 Occupational Therapy and Physical Therapist Assistants and Aides.
31-2010 Occupational Therapist Assistants and Aides | 31-2010 Occupational Therapy Assistants and Aides.
31-2011 Occupational Therapist Assistants | 31-2011 Occupational Therapy Assistants.
31-2012 Occupational Therapist Aides | 31-2012 Occupational Therapy Aides.
31-9000 Other Healthcare Support Occupations
31-9090 Miscellaneous Healthcare Support Occupations
31-9099 Healthcare Support Workers, All Other | 31-9099 Healthcare Support Workers, All Other.
| Except phlebotomists.
| 31-9097 Phlebotomists.
33-0000 Protective Service Occupations
33-1000 First-Line Supervisors/Managers, Protective Service Workers | 33-1000 Supervisors of Protective Service Workers.
33-1010 First-Line Supervisors/Managers, Law Enforcement Workers | 33-1010 First-Line Supervisors of Law Enforcement Workers.
33-1011 First-Line Supervisors/Managers of Correctional Officers | 33-1011 First-Line Supervisors of Correctional Officers.
33-1012 First-Line Supervisors/Managers of Police and Detectives | 33-1012 First-Line Supervisors of Police and Detectives.
33-1020 First-Line Supervisors/Managers, Fire Fighting and Prevention Workers | 33-1020 First-Line Supervisors of Fire Fighting and Prevention Workers.
33-1021 First-Line Supervisors/Managers of Fire Fighting and Prevention Workers | 33-1021 First-Line Supervisors of Fire Fighting and Prevention Workers.
33-1090 Miscellaneous First-Line Supervisors/Managers, Protective Service Workers | 33-1090 Miscellaneous First-Line Supervisors, Protective Service Workers.
33-1099 First-Line Supervisors/Managers, Protective Service Workers, All Other | 33-1099 First-Line Supervisors of Protective Service Workers, All Other.
33-2010 Fire Fighters | 33-2010 Firefighters.
33-2011 Fire Fighters | 33-2011 Firefighters.
33-9000 Other Protective Service Workers
33-9030 Security Guards and Gaming Surveillance Officers
33-9032 Security Guards | 33-9032 Security Guards.
| Except transportation security screeners.
| 33-9093 Transportation Security Screeners.*
33-9090 Miscellaneous Protective Service Workers
33-9099 Protective Service Workers, All Other | 33-9099 Protective Service Workers, All Other.
| Except transportation security screeners.
| 33-9093 Transportation Security Screeners.*
35-0000 Food Preparation and Serving Related Occupations
35-1000 Supervisors, Food Preparation and Serving Workers | 35-1000 Supervisors of Food Preparation and Serving Workers.
35-1010 First-Line Supervisors/Managers, Food Preparation and Serving Workers | 35-1010 Supervisors of Food Preparation and Serving Workers.
35-1012 First-Line Supervisors/Managers of Food Preparation and Serving Workers | 35-1012 First-Line Supervisors of Food Preparation and Serving Workers.
37-0000 Building and Grounds Cleaning and Maintenance Occupations
37-1000 Supervisors, Building and Grounds Cleaning and Maintenance Workers | 37-1000 Supervisors of Building and Grounds Cleaning and Maintenance Workers.
37-1010 First-Line Supervisors/Managers, Building and Grounds Cleaning and Maintenance Workers | 37-1010 First-Line Supervisors of Building and Grounds Cleaning and Maintenance Workers.
37-1011 First-Line Supervisors/Managers of Housekeeping and Janitorial Workers | 37-1011 First-Line Supervisors of Housekeeping and Janitorial Workers.
37-1012 First-Line Supervisors/Managers of Landscaping, Lawn Services, and Groundskeeping Workers | 37-1012 First-Line Supervisors of Landscaping, Lawn Services, and Groundskeeping Workers.
39-0000 Personal Care and Service Occupations
39-1000 Supervisors, Personal Care and Service Workers | 39-1000 Supervisors of Personal Care and Service Workers.
39-1010 First-Line Supervisors/Managers of Gaming Workers | 39-1010 First-Line Supervisors of Gaming Workers.
39-1012 Slot Key Persons | 39-1012 Slot Supervisors.
39-1020 First-Line Supervisors/Managers of Personal Service Workers | 39-1020 First-Line Supervisors of Personal Service Workers.
39-1021 First-Line Supervisors/Managers of Personal Service Workers | 39-1021 First-Line Supervisors of Personal Service Workers.
39-5010 Barbers and Cosmetologists | 39-5010 Barbers, Hairdressers, Hairstylists, and Cosmetologists.
39-5094 Skin Care Specialists | 39-5094 Skincare Specialists.
39-6000 Transportation, Tourism, and Lodging Attendants | 39-6000 Baggage Porters, Bellhops, and Concierges.
| 39-7000 Tour and Travel Guides.
39-6020 Tour and Travel Guides | 39-7010 Tour and Travel Guides.
39-6021 Tour Guides and Escorts | 39-7011 Tour Guides and Escorts.
39-6022 Travel Guides | 39-7012 Travel Guides.
39-6030 Transportation Attendants | 53-2030 Flight Attendants.
| 53-6060 Transportation Attendants, Except Flight Attendants.
39-6031 Flight Attendants | 53-2031 Flight Attendants.
39-6032 Transportation Attendants, Except Flight Attendants and Baggage Porters | 53-6061 Transportation Attendants, Except Flight Attendants.
39-9010 Child Care Workers | 39-9010 Childcare Workers.
39-9011 Child Care Workers | 39-9011 Childcare Workers.
39-9020 Personal and Home Care Aides | 39-9020 Personal Care Aides.
39-9021 Personal and Home Care Aides | 39-9021 Personal Care Aides.
41-0000 Sales and Related Occupations
41-1000 Supervisors, Sales Workers | 41-1000 Supervisors of Sales Workers.
41-1010 First-Line Supervisors/Managers, Sales Workers | 41-1010 First-Line Supervisors of Sales Workers.
41-1011 First-Line Supervisors/Managers of Retail Sales Workers | 41-1011 First-Line Supervisors of Retail Sales Workers.
41-1012 First-Line Supervisors/Managers of Non-Retail Sales Workers | 41-1012 First-Line Supervisors of Non-Retail Sales Workers.
41-9000 Other Sales and Related Workers
41-9090 Miscellaneous Sales and Related Workers
41-9099 Sales and Related Workers, All Other | 41-9099 Sales and Related Workers, All Other.
| Except fundraisers.
| 13-1131 Fundraisers.
43-0000 Office and Administrative Support Occupations
43-1000 Supervisors, Office and Administrative Support Workers | 43-1000 Supervisors of Office and Administrative Support Workers.
43-1010 First-Line Supervisors/Managers of Office and Administrative Support Workers | 43-1010 First-Line Supervisors of Office and Administrative Support Workers.
43-1011 First-Line Supervisors/Managers of Office and Administrative Support Workers | 43-1011 First-Line Supervisors of Office and Administrative Support Workers.
43-3020 Billing and Posting Clerks and Machine Operators. | 43-3020 Billing and Posting Clerks.
43-3021 Billing and Posting Clerks and Machine Operators | 43-3021 Billing and Posting Clerks.
43-6011 Executive Secretaries and Administrative Assistants | 43-6011 Executive Secretaries and Executive Administrative Assistants.
43-6014 Secretaries, Except Legal, Medical, and Executive | 43-6014 Secretaries and Administrative Assistants, Except Legal, Medical, and Executive.
43-9000 Other Office and Administrative Support Workers
43-9190 Miscellaneous Office and Administrative Support Workers
43-9199 Office and Administrative Support Workers, All Other | 43-9199 Office and Administrative Support Workers, All Other.
| Except all other financial clerks.
| 43-3099 Financial Clerks, All Other.
45-0000 Farming, Fishing, and Forestry Occupations
45-1000 Supervisors, Farming, Fishing, and Forestry Workers | 45-1000 Supervisors of Farming, Fishing, and Forestry Workers.
45-1010 First-Line Supervisors/Managers of Farming, Fishing, and Forestry Workers | 45-1010 First-Line Supervisors of Farming, Fishing, and Forestry Workers.
45-1011 First-Line Supervisors/Managers of Farming, Fishing, and Forestry Workers | 45-1011 First-Line Supervisors of Farming, Fishing, and Forestry Workers.
45-1012 Farm Labor Contractors | 13-1074 Farm Labor Contractors.
45-2093 Farmworkers, Farm and Ranch Animals | 45-2093 Farmworkers, Farm, Ranch, and Aquacultural Animals.
47-0000 Construction and Extraction Occupations
47-1000 Supervisors, Construction and Extraction Workers | 47-1000 Supervisors of Construction and Extraction Workers.
47-1010 First-Line Supervisors/Managers of Construction Trades and Extraction Workers | 47-1010 First-Line Supervisors of Construction Trades and Extraction Workers.
47-1011 First-Line Supervisors/Managers of Construction Trades and Extraction Workers | 47-1011 First-Line Supervisors of Construction Trades and Extraction Workers.
47-2000 Construction Trades Workers
47-2110 Electricians
47-2111 Electricians | 47-2111 Electricians.
| Except solar photovoltaic installers.
| 47-2231 Solar Photovoltaic Installers.*
47-2180 Roofers
47-2181 Roofers | 47-2181 Roofers.
| Except solar photovoltaic installers.
| 47-2231 Solar Photovoltaic Installers.*
47-4000 Other Construction and Related Workers
47-4090 Miscellaneous Construction and Related Workers
47-4099 Construction and Related Workers, All Other | 47-4099 Construction and Related Workers, All Other.
| Except solar photovoltaic installers.
| 47-2231 Solar Photovoltaic Installers.*
49-0000 Installation, Maintenance, and Repair Occupations
49-1000 Supervisors of Installation, Maintenance, and Repair Workers
49-1010 First-Line Supervisors/Managers of Mechanics, Installers, and Repairers | 49-1010 First-Line Supervisors of Mechanics, Installers, and Repairers.
49-1011 First-Line Supervisors/Managers of Mechanics, Installers, and Repairers | 49-1011 First-Line Supervisors of Mechanics, Installers, and Repairers.
49-2021 Radio Mechanics | 49-2021 Radio, Cellular, and Tower Equipment Installers and Repairers.
49-3041 Farm Equipment Mechanics | 49-3041 Farm Equipment Mechanics and Service Technicians.
49-3051 Motorboat Mechanics | 49-3051 Motorboat Mechanics and Service Technicians.
49-9000 Other Installation, Maintenance, and Repair Occupations
49-9020 Heating, Air Conditioning, and Refrigeration Mechanics and Installers
49-9021 Heating, Air Conditioning, and Refrigeration Mechanics and Installers | 49-9021 Heating, Air Conditioning, and Refrigeration Mechanics and Installers.
| Except solar photovoltaic installers.
| 47-2231 Solar Photovoltaic Installers.*
49-9040 Industrial Machinery Installation, Repair, and Maintenance Workers
49-9042 Maintenance and Repair Workers, General | 49-9071 Maintenance and Repair Workers, General.
49-9090 Miscellaneous Installation, Maintenance, and Repair Workers
49-9099 Installation, Maintenance, and Repair Workers, All Other | 49-9099 Installation, Maintenance, and Repair Workers, All Other.
| Except wind turbine service technicians.
| Except solar photovoltaic installers.
| 49-9081 Wind Turbine Service Technicians.
| 47-2231 Solar Photovoltaic Installers.*
51-0000 Production Workers
51-1000 Supervisors, Production Workers | 51-1000 Supervisors of Production Workers.
51-1010 First-Line Supervisors/Managers of Production and Operating Workers | 51-1010 First-Line Supervisors of Production and Operating Workers.
51-1011 First-Line Supervisors/Managers of Production and Operating Workers | 51-1011 First-Line Supervisors of Production and Operating Workers.
51-2093 Timing Device Assemblers, Adjusters, and Calibrators | 51-2093 Timing Device Assemblers and Adjusters.
51-4012 Numerical Tool and Process Control Programmers | 51-4012 Computer Numerically Controlled Machine Tool Programmers, Metal and Plastic.
51-4050 Metal Furnace and Kiln Operators and Tenders | 51-4050 Metal Furnace Operators, Tenders, Pourers, and Casters.
51-4190 Miscellaneous Metalworkers and Plastic Workers | 51-4190 Miscellaneous Metal Workers and Plastic Workers.
51-4192 Lay-Out Workers, Metal and Plastic | 51-4192 Layout Workers, Metal and Plastic.
51-5000 Printing Workers
51-5010 Bookbinders and Bindery Workers | 51-5110 Printing Workers.*
51-5011 Bindery Workers | 51-5113 Print Binding and Finishing Workers.*
51-5012 Bookbinders | 51-5113 Print Binding and Finishing Workers.*
51-5020 Printers | 51-5110 Printing Workers.*
51-5021 Job Printers | 51-5112 Printing Press Operators.*
| 51-5113 Print Binding and Finishing Workers.*
51-5022 Prepress Technicians and Workers | 51-5111 Prepress Technicians and Workers.
51-5023 Printing Machine Operators | 51-5112 Printing Press Operators.*
51-8030 Water and Liquid Waste Treatment Plant and System Operators | 51-8030 Water and Wastewater Treatment Plant and System Operators.
51-8031 Water and Liquid Waste Treatment Plant and System Operators | 51-8031 Water and Wastewater Treatment Plant and System Operators.
51-9000 Other Production Occupations
51-9130 Photographic Process Workers and Processing Machine Operators | 51-9150 Photographic Process Workers and Processing Machine Operators.
51-9131 Photographic Process Workers | 51-9151 Photographic Process Workers and Processing Machine Operators.*
51-9132 Photographic Processing Machine Operators | 51-9151 Photographic Process Workers and Processing Machine Operators.*
51-9191 Cementing and Gluing Machine Operators and Tenders | 51-9191 Adhesive Bonding Machine Operators and Tenders.
51-9190 Miscellaneous Production Workers
51-9199 Production Workers, All Other | 51-9199 Production Workers, All Other.
| Except food processing workers, all other .
| 51-3099 Food Processing Workers, All Other.
53-0000 Transportation and Material Moving Occupations
53-1000 Supervisors, Transportation and Material Moving Workers | 53-1000 Supervisors of Transportation and Material Moving Workers.
53-1020 First-Line Supervisors/Managers of Helpers, Laborers, and Material Movers, Hand | 53-1020 First-Line Supervisors of Helpers, Laborers, and Material Movers, Hand.
53-1021 First-Line Supervisors/Managers of Helpers, Laborers, and Material Movers, Hand | 53-1021 First-Line Supervisors of Helpers, Laborers, and Material Movers, Hand.
53-1030 First-Line Supervisors/Managers of Transportation and Material-Moving Machine and Vehicle Operators | 53-1030 First-Line Supervisors of Transportation and Material-Moving Machine and Vehicle Operators.
53-1031 First-Line Supervisors/Managers of Transportation and Material-Moving Machine and Vehicle Operators | 53-1031 First-Line Supervisors of Transportation and Material-Moving Machine and Vehicle Operators.
53-3022 Bus Drivers, School | 53-3022 Bus Drivers, School or Special Client.
53-3032 Truck Drivers, Heavy and Tractor-Trailer | 53-3032 Heavy and Tractor-Trailer Truck Drivers.
53-3033 Truck Drivers, Light or Delivery Services | 53-3033 Light Truck or Delivery Services Drivers.
53-6030 Service Station Attendants | 53-6030 Automotive and Watercraft Service Attendants.
53-6031 Service Station Attendants | 53-6031 Automotive and Watercraft Service Attendants.
53-7110 Shuttle Car Operators | 53-7110 Mine Shuttle Car Operators.
53-7111 Shuttle Car Operators | 53-7111 Mine Shuttle Car Operators.
55-0000 Military Specific Occupations
55-1000 Military Officer Special and Tactical Operations Leaders/Managers | 55-1000 Military Officer Special and Tactical Operations Leaders.
55-1010 Military Officer Special and Tactical Operations Leaders/Managers | 55-1010 Military Officer Special and Tactical Operations Leaders.
55-1019 Military Officer Special and Tactical Operations Leaders/Managers, All Other | 55-1019 Military Officer Special and Tactical Operations Leaders, All Other.
55-2000 First-Line Enlisted Military Supervisors/ Managers | 55-2000 First-Line Enlisted Military Supervisors.
55-2010 First-Line Enlisted Military Supervisors/ Managers | 55-2010 First-Line Enlisted Military Supervisors.
55-2011 First-Line Supervisors/Managers of Air Crew Members | 55-2011 First-Line Supervisors of Air Crew Members.
55-2012 First-Line Supervisors/Managers of Weapons Specialists/Crew Members | 55-2012 First-Line Supervisors of Weapons Specialists/Crew Members.
55-2013 First-Line Supervisors/Managers of All Other Tactical Operations Specialists | 55-2013 First-Line Supervisors of All Other Tactical Operations Specialists.

APPENDIX C: 2010 SOC TO 2000 SOC

Appendix C is a chart listing every new or revised detailed occupation for the 2010 SOC. The preliminary corresponding 2000 code(s) and title(s) appear in the second column, including changes to only the code or title. An asterisk (*) after the occupation code and title in the second column means that the occupation in the first column makes up only part of the occupation in the second column; that is, the asterisked 2000 SOC occupation has been divided into multiple new occupations. Each occupation with the (*) notation appears multiple times in the chart.

A new detailed occupation may have been created by breaking out a group of workers previously classified in a 2000 SOC occupation, but the new occupation does not completely replace the 2000 SOC occupation. In this case, the 2000 occupation will indicate in italics which group has been removed to create a new occupation. To aid the reader with the hierarchical location of the change, where a detailed occupation has been added or removed, the major group, minor group, and broad occupation codes for that occupation are also listed.

2010 SOC | 2000 SOC
11-0000 Management Occupations
11-2030 Public Relations and Fundraising Managers | 11-2030 Public Relations Managers.
11-2031 Public Relations and Fundraising Managers | 11-2031 Public Relations Managers.
11-3000 Operations Specialties Managers
11-3110 Compensation and Benefits Managers | 11-3040 Human Resources Managers.*
11-3111 Compensation and Benefits Managers | 11-3041 Compensation and Benefits Managers.
11-3120 Human Resources Managers | 11-3040 Human Resources Managers.*
11-3121 Human Resources Managers | 11-3049 Human Resources Managers, All Other.
11-3130 Training and Development Managers | 11-3040 Human Resources Managers.*
11-3131 Training and Development Managers | 11-3042 Training and Development Managers.
11-9000 Other Management Occupations
11-9010 Farmers, Ranchers, and Other Agricultural Managers | 11-9010 Agricultural Managers.
11-9013 Farmers, Ranchers, and Other Agricultural Managers | 11-9011 Farm, Ranch, and Other Agricultural Managers.
| 11-9012 Farmers and Ranchers.
11-9031 Education Administrators, Preschool and Childcare Center/Program | 11-9031 Education Administrators, Preschool and Child Care Center/Program.
11-9040 Architectural and Engineering Managers
11-9041 Architectural and Engineering Managers | 11-9041 Engineering Managers.
11-9060 Funeral Service Managers
11-9061 Funeral Service Managers | 11-9061 Funeral Directors.*
Except morticians, undertakers and funeral directors
11-9160 Emergency Management Directors | 13-1060 Emergency Management Specialists.
11-9161 Emergency Management Directors | 13-1061 Emergency Management Specialists.
13-0000 Business and Financial Operations Occupations
13-1000 Business Operations Specialists
13-1021 Buyers and Purchasing Agents, Farm Products | 13-1021 Purchasing Agents and Buyers, Farm Products.
13-1040 Compliance Officers
13-1041 Compliance Officers | 13-1041 Compliance Officers, Except Agriculture, Construction, Health and Safety, and Transportation.
Except transportation security screeners
13-1070 Human Resources Workers | 13-1070 Human Resources, Training, and Labor Relations Specialists.*
13-1071 Human Resources Specialists | 13-1071 Employment, Recruitment, and Placement Specialists.
| 13-1079 Human Resources, Training, and Labor Relations Specialists, All Other.*
13-1074 Farm Labor Contractors | 45-1012 Farm Labor Contractors.
13-1075 Labor Relations Specialists | 13-1079 Human Resources, Training, and Labor Relations Specialists, All Other.*
13-1120 Meeting, Convention, and Event Planners
13-1121 Meeting, Convention, and Event Planners | 13-1121 Meeting and Convention Planners.
| 13-1199 Business Operations Specialists, All Other.*
| 27-3031 Public Relations Specialists.*
13-1130 Fundraisers
13-1131 Fundraisers | 41-9099 Sales and Related Workers, All Other.*
13-1140 Compensation, Benefits, and Job Analysis Specialists | 13-1070 Human Resources, Training, and Labor Relations Specialists.*
13-1141 Compensation, Benefits, and Job Analysis Specialists | 13-1072 Compensation, Benefits, and Job Analysis Specialists.
13-1150 Training and Development Specialists | 13-1070 Human Resources, Training, and Labor Relations Specialists.*
13-1151 Training and Development Specialists | 13-1073 Training and Development Specialists.
13-1160 Market Research Analysts and Marketing Specialists
13-1161 Market Research Analysts and Marketing Specialists | 19-3021 Market Research Analysts.
| 13-1199 Business Operations Specialists, All Other.*
| 27-3031 Public Relations Specialists.*
13-1190 Miscellaneous Business Operations Specialists
13-1199 Business Operations Specialists, All Other | 13-1199 Business Operations Specialists, All Other.
Except meeting, convention, and event planners
Except market research analysts and marketing specialists
13-2070 Credit Counselors and Loan Officers | 13-2070 Loan Counselors and Officers.
13-2071 Credit Counselors | 13-2071 Loan Counselors.
13-2080 Tax Examiners, Collectors and Preparers, and Revenue Agents
13-2081 Tax Examiners and Collectors, and Revenue Agents | 13-2081 Tax Examiners, Collectors, and Revenue Agents.
15-0000 Computer and Mathematical Occupations | 15-0000 Computer and Mathematical Science Occupations.
15-1100 Computer Occupations | 15-1000 Computer Specialists.
15-1110 Computer and Information Research Scientists | 15-1010 Computer and Information Scientists, Research.
15-1111 Computer and Information Research Scientists | 15-1011 Computer and Information Scientists, Research.
15-1120 Computer and Information Analysts
15-1121 Computer Systems Analysts | 15-1051 Computer Systems Analysts.*
15-1122 Information Security Analysts | 15-1081 Network Systems and Data Communications Analysts.*
15-1130 Software Developers and Programmers
15-1131 Computer Programmers | 15-1021 Computer Programmers.
15-1132 Software Developers, Applications | 15-1031 Computer Software Engineers, Applications.
15-1133 Software Developers, Systems Software | 15-1032 Computer Software Engineers, Systems Software.
15-1134 Web Developers | 15-1081 Network Systems and Data Communications Analysts.*
15-1140 Database and Systems Administrators and Network Architects
15-1141 Database Administrators | 15-1061 Database Administrators.
15-1142 Network and Computer Systems Administrators | 15-1071 Network and Computer Systems Administrators.
| 15-1081 Network Systems and Data Communications Analysts.*
15-1143 Computer Network Architects | 15-1081 Network Systems and Data Communications Analysts.*
| 15-1051 Computer Systems Analysts.*
15-1150 Computer Support Specialists
15-1151 Computer User Support Specialists | 15-1041 Computer Support Specialists.
15-1152 Computer Network Support Specialists | 15-1081 Network Systems and Data Communications Analysts.*
15-1190 Miscellaneous Computer Occupations
15-1199 Computer Occupations, All Other | 15-1099 Computer Specialists, All Other.
17-0000 Architecture and Engineering Occupations
17-3000 Drafters, Engineering Technicians, and Mapping Technicians | 17-3000 Drafters, Engineering, and Mapping Technicians.
19-0000 Life, Physical, and Social Science Occupations
19-3000 Social Scientists and Related Workers
19-3020 Survey Researchers | 19-3020 Market and Survey Researchers.*
21-0000 Community and Social Service Occupations | 21-0000 Community and Social Services Occupations.
21-1000 Counselors, Social Workers, and Other Community and Social Service Specialists
21-1012 Educational, Guidance, School, and Vocational Counselors | 21-1012 Educational, Vocational, and School Counselors.
21-1022 Healthcare Social Workers | 21-1022 Medical and Public Health Social Workers.
21-1090 Miscellaneous Community and Social Service Specialists
21-1091 Health Educators | 121-1091 Health Educators.*
Except community health workers
21-1094 Community Health Workers | 21-1091 Health Educators.*
| 21-1099 Community and Social Service Specialists, All Other.*
21-1099 Community and Social Service Specialists, All Other | 21-1099 Community and Social Service Specialists, All Other.*
Except community health workers
23-0000 Legal Occupations
23-1000 Lawyers, Judges, and Related Workers
23-1010 Lawyers and Judicial Law Clerks | 23-1010 Lawyers.
23-1012 Judicial Law Clerks | 23-2092 Law Clerks.*
23-2000 Legal Support Workers
23-2011 Paralegals and Legal Assistants | 23-2011 Paralegals and Legal Assistants.
| 23-2092 Law Clerks.*
25-0000 Education, Training, and Library Occupations
25-2000 Preschool, Primary, Secondary, and Special Education School Teachers | 25-2000 Primary, Secondary, and Special Education School Teachers.
25-2020 Elementary and Middle School Teachers
25-2022 Middle School Teachers, Except Special and Career/Technical Education | 25-2022 Middle School Teachers, Except Special and Vocational Education.
25-2023 Career/Technical Education Teachers, Middle School | 25-2023 Vocational Education Teachers, Middle School.
25-2030 Secondary School Teachers
25-2031 Secondary School Teachers, Except Special and Career/Technical Education | 25-2031 Secondary School Teachers, Except Special and Vocational Education.
25-2032 Career/Technical Education Teachers, Secondary School | 25-2032 Vocational Education Teachers, Secondary School.
25-2050 Special Education Teachers | 25-2040 Special Education Teachers.
25-2051 Special Education Teachers, Preschool | 25-2041 Special Education Teachers, Preschool, Kindergarten, and Elementary School.*
25-2052 Special Education Teachers, Kindergarten and Elementary School | 25-2041 Special Education Teachers, Preschool, Kindergarten, and Elementary School.*
25-2053 Special Education Teachers, Middle School | 25-2042 Special Education Teachers, Middle School.
25-2054 Special Education Teachers, Secondary School | 25-2043 Special Education Teachers, Secondary School.
25-2059 Special Education Teachers, All Other | 25-3099 Teachers and Instructors, All Other.*
25-3000 Other Teachers and Instructors
25-3010 Adult Basic and Secondary Education and Literacy Teachers and Instructors | 25-3010 Adult Literacy, Remedial Education, and GED Teachers and Instructors.
25-3011 Adult Basic and Secondary Education and Literacy Teachers and Instructors | 25-3011 Adult Literacy, Remedial Education, and GED Teachers and Instructors.
25-3090 Miscellaneous Teachers and Instructors | 25-3090 Miscellaneous Teachers and Instructors.
Except special education teachers, all other
25-3099 Teachers and Instructors, All Other | 25-3099 Teachers and Instructors, All Other.*
Except special education teachers, all other
25-9010 Audio-Visual and Multimedia Collections Specialists
25-9011 Audio-Visual and Multimedia Collections Specialists | 25-9011 Audio-Visual Collections Specialists.
27-0000 Arts, Design, Entertainment, Sports, and Media Occupations
27-1014 Multimedia Artists and Animators | 27-1014 Multi-Media Artists and Animators.
27-3030 Public Relations Specialists
27-3031 Public Relations Specialists | 27-3031 Public Relations Specialists.*
Except meeting, convention, and event planners
Except market research analysts and marketing specialists
29-0000 Healthcare Practitioners and Technical Occupations | 29-0000 Healthcare Practitioner and Technical Occupations.
29-1000 Health Diagnosing and Treating Practitioners
29-1120 Therapists
29-1128 Exercise Physiologists | 29-1129 Therapists, All Other.*
29-1129 Therapists, All Other | 29-1129 Therapists, All Other.*
Except exercise physiologists
29-1140 Registered Nurses | 29-1110 Registered Nurses.*
29-1141 Registered Nurses | 29-1111 Registered Nurses.*
Except nurse anesthetists, nurse practitioners, and nurse midwives
29-1150 Nurse Anesthetists
29-1151 Nurse Anesthetists | 29-1111 Registered Nurses.*
29-1160 Nurse Midwives
29-1161 Nurse Midwives | 29-1111 Registered Nurses.*
29-1170 Nurse Practitioners
29-1171 Nurse Practitioners | 29-1111 Registered Nurses.*
29-1180 Audiologists
29-1181 Audiologists | 29-1121 Audiologists.
29-2000 Health Technologists and Technicians
29-2030 Diagnostic Related Technologists and Technicians
29-2034 Radiologic Technologists | 29-2034 Radiologic Technologists and Technicians.*
Except magnetic resonance imaging technologists
29-2035 Magnetic Resonance Imaging Technologists | 29-2034 Radiologic Technologists and Technicians.*
29-2050 Health Practitioner Support Technologists and Technicians | 29-2050 Health Diagnosing and Treating Practitioner Support Technicians.
29-2057 Ophthalmic Medical Technicians | 29-2099 Health Technologists and Technicians, All Other.*
29-2090 Miscellaneous Health Technologists and Technicians
29-2092 Hearing Aid Specialists | 29-2099 Health Technologists and Technicians, All Other.*
29-2099 Health Technologists and Technicians, All Other | 29-2099 Health Technologists and Technicians, All Other.*
Except ophthalmic medical technicians
Except hearing aid specialists
29-9000 Other Healthcare Practitioners and Technical Occupations | 29-9000 Other Healthcare Practitioner and Technical Occupations.
29-9090 Miscellaneous Healthcare Practitioners and Technical Workers | 29-9090 Miscellaneous Healthcare Practitioner and Technical Workers.
29-9092 Genetic Counselors | 29-9099 Healthcare Practitioner and Technical Workers, All Other.*
29-9099 Healthcare Practitioners and Technical Workers, All Other | 29-9099 Healthcare Practitioner and Technical Workers, All Other.*
Except genetic counselors
31-0000 Healthcare Support Occupations
31-1000 Nursing, Psychiatric, and Home Health Aides
31-1010 Nursing, Psychiatric, and Home Health Aides
31-1014 Nursing Assistants | 31-1012 Nursing Aides, Orderlies, and Attendants.*
31-1015 Orderlies | 31-1012 Nursing Aides, Orderlies, and Attendants.*
31-2000 Occupational Therapy and Physical Therapist Assistants and Aides | 31-2000 Occupational and Physical Therapist Assistants and Aides.
31-2010 Occupational Therapy Assistants and Aides | 31-2010 Occupational Therapist Assistants and Aides.
31-2011 Occupational Therapy Assistants | 31-2011 Occupational Therapist Assistants.
31-2012 Occupational Therapy Aides | 31-2012 Occupational Therapist Aides.
31-9000 Other Healthcare Support Occupations
31-9090 Miscellaneous Healthcare Support Occupations
31-9097 Phlebotomists | 31-9099 Healthcare Support Workers, All Other.*
31-9099 Healthcare Support Workers, All Other | 31-9099 Healthcare Support Workers, All Other.*
Except phlebotomists
33-0000 Protective Service Occupations
33-1000 Supervisors of Protective Service Workers | 33-1000 First-Line Supervisors/Managers, Protective Service Workers.
33-1010 First-Line Supervisors of Law Enforcement Workers | 33-1010 First-Line Supervisors/Managers, Law Enforcement Workers.
33-1011 First-Line Supervisors of Correctional Officers | 33-1011 First-Line Supervisors/Managers of Correctional Officers.
33-1012 First-Line Supervisors of Police and Detectives | 33-1012 First-Line Supervisors/Managers of Police and Detectives.
33-1020 First-Line Supervisors of Fire Fighting and Prevention Workers | 33-1020 First-Line Supervisors/Managers, Fire Fighting and Prevention Workers.
33-1021 First-Line Supervisors of Fire Fighting and Prevention Workers | 33-1021 First-Line Supervisors/Managers of Fire Fighting and Prevention Workers.
33-1090 Miscellaneous First-Line Supervisors, Protective Service Workers | 33-1090 Miscellaneous First-Line Supervisors/Managers, Protective Service Workers.
33-1099 First-Line Supervisors of Protective Service Workers, All Other | 33-1099 First-Line Supervisors/Managers, Protective Service Workers, All Other.
33-2010 Firefighters | 33-2010 Fire Fighters.
33-2011 Firefighters | 33-2011 Fire Fighters.
33-9000 Other Protective Service Workers
33-9030 Security Guards and Gaming Surveillance Officers
33-9032 Security Guards | 33-9032 Security Guards.*
Except transportation security screeners
33-9090 Miscellaneous Protective Service Workers
33-9093 Transportation Security Screeners | 13-1041 Compliance Officers, Except Agriculture, Construction, Health and Safety, and Transportation.*
| 33-9032 Security Guards.*
| 33-9099 Protective Service Workers, All Other.*
33-9099 Protective Service Workers, All Other | 33-9099 Protective Service Workers, All Other.*
Except transportation security screeners
35-0000 Food Preparation and Serving Related Occupations
35-1000 Supervisors of Food Preparation and Serving Workers | 35-1000 Supervisors, Food Preparation and Serving Workers.
35-1010 Supervisors of Food Preparation and Serving Workers | 35-1010 First-Line Supervisors/Managers, Food Preparation and Serving Workers.
35-1012 First-Line Supervisors of Food Preparation and Serving Workers | 35-1012 First-Line Supervisors/Managers of Food Preparation and Serving Workers.
37-0000 Building and Grounds Cleaning and Maintenance Occupations
37-1000 Supervisors of Building and Grounds Cleaning and Maintenance Workers | 37-1000 Supervisors, Building and Grounds Cleaning and Maintenance Workers.
37-1010 First-Line Supervisors of Building and Grounds Cleaning and Maintenance Workers | 37-1010 First-Line Supervisors/Managers, Building and Grounds Cleaning and Maintenance Workers.
37-1011 First-Line Supervisors of Housekeeping and Janitorial Workers | 37-1011 First-Line Supervisors/Managers of Housekeeping and Janitorial Workers.
37-1012 First-Line Supervisors of Landscaping, Lawn Services, and Groundskeeping Workers | 37-1012 First-Line Supervisors/Managers of Landscaping, Lawn Services, and Groundskeeping Workers.
39-0000 Personal Care and Service Occupations
39-1000 Supervisors of Personal Care and Service Workers | 39-1000 Supervisors, Personal Care and Service Workers.
39-1010 First-Line Supervisors of Gaming Workers | 39-1010 First-Line Supervisors/Managers of Gaming Workers.
39-1012 Slot Supervisors | 39-1012 Slot Key Persons.
39-1020 First-Line Supervisors of Personal Service Workers | 39-1020 First-Line Supervisors/Managers of Personal Service Workers.
39-1021 First-Line Supervisors of Personal Service Workers | 39-1021 First-Line Supervisors/Managers of Personal Service Workers.
39-4000 Funeral Service Workers
39-4030 Morticians, Undertakers, and Funeral Directors
39-4031 Morticians, Undertakers, and Funeral Directors | 11-9061 Funeral Directors.*
39-5010 Barbers, Hairdressers, Hairstylists, and Cosmetologists | 39-5010 Barbers and Cosmetologists.
39-5094 Skincare Specialists | 39-5094 Skin Care Specialists.
39-6000 Baggage Porters, Bellhops, and Concierges | 39-6000 Transportation, Tourism, and Lodging Attendants.
39-7000 Tour and Travel Guides
39-7010 Tour and Travel Guides | 39-6020 Tour and Travel Guides.
39-7011 Tour Guides and Escorts | 39-6021 Tour Guides and Escorts.
39-7012 Travel Guides | 39-6022 Travel Guides.
39-9010 Childcare Workers | 39-9010 Child Care Workers.
39-9011 Childcare Workers | 39-9011 Child Care Workers.
39-9020 Personal Care Aides | 39-9020 Personal and Home Care Aides.
39-9021 Personal Care Aides | 39-9021 Personal and Home Care Aides.
41-0000 Sales and Related Occupations
41-1000 Supervisors of Sales Workers | 41-1000 Supervisors, Sales Workers.
41-1010 First-Line Supervisors of Sales Workers | 41-1010 First-Line Supervisors/Managers, Sales Workers.
41-1011 First-Line Supervisors of Retail Sales Workers | 41-1011 First-Line Supervisors/Managers of Retail Sales Workers.
41-1012 First-Line Supervisors of Non-Retail Sales Workers | 41-1012 First-Line Supervisors/Managers of Non-Retail Sales Workers.
41-9000 Other Sales and Related Workers
41-9090 Miscellaneous Sales and Related Workers
41-9099 Sales and Related Workers, All Other | 41-9099 Sales and Related Workers, All Other.*
Except fundraisers
43-0000 Office and Administrative Support Occupations
43-1000 Supervisors of Office and Administrative Support Workers | 43-1000 Supervisors, Office and Administrative Support Workers.
43-1010 First-Line Supervisors of Office and Administrative Support Workers | 43-1010 First-Line Supervisors/Managers of Office and Administrative Support Workers.
43-1011 First-Line Supervisors of Office and Administrative Support Workers | 43-1011 First-Line Supervisors/Managers of Office and Administrative Support Workers.
43-3000 Financial Clerks
43-3020 Billing and Posting Clerks | 43-3020 Billing and Posting Clerks and Machine Operators.
43-3021 Billing and Posting Clerks | 43-3021 Billing and Posting Clerks and Machine Operators.
43-3090 Miscellaneous Financial Clerks
43-3099 Financial Clerks, All Other | 43-9199 Office and Administrative Support Workers, All Other.*
43-6011 Executive Secretaries and Executive Administrative Assistants | 43-6011 Executive Secretaries and Administrative Assistants.
43-6014 Secretaries and Administrative Assistants, Except Legal, Medical, and Executive | 43-6014 Secretaries, Except Legal, Medical, and Executive.
43-9000 Other Office and Administrative Support Workers
43-9190 Miscellaneous Office and Administrative Support Workers
43-9199 Office and Administrative Support Workers, All Other | 43-9199 Office and Administrative Support Workers, All Other.*
Except financial clerks, all other
45-0000 Farming, Fishing, and Forestry Occupations
45-1000 Supervisors of Farming, Fishing, and Forestry Workers | 45-1000 Supervisors, Farming, Fishing, and Forestry Workers.
45-1010 First-Line Supervisors of Farming, Fishing, and Forestry Workers | 45-1010 First-Line Supervisors/Managers of Farming, Fishing, and Forestry Workers.
45-1011 First-Line Supervisors of Farming, Fishing, and Forestry Workers | 45-1011 First-Line Supervisors/Managers of Farming, Fishing, and Forestry Workers.
45-2090 Miscellaneous Agricultural Workers
45-2093 Farmworkers, Farm, Ranch, and Aquacultural Animals | 45-2093 Farmworkers, Farm and Ranch Animals.
47-0000 Construction and Extraction Occupations
47-1000 Supervisors of Construction and Extraction Workers | 47-1000 Supervisors, Construction and Extraction Workers.
47-1010 First-Line Supervisors of Construction Trades and Extraction Workers | 47-1010 First-Line Supervisors/Managers of Construction Trades and Extraction Workers.
47-1011 First-Line Supervisors of Construction Trades and Extraction Workers | 47-1011 First-Line Supervisors/Managers of Construction Trades and Extraction Workers.
47-2000 Construction Trades Workers
47-2110 Electricians
47-2111 Electricians | 47-2111 Electricians.*
Except solar photovoltaic installers
47-2180 Roofers
47-2181 Roofers | 47-2181 Roofers.*
Except solar photovoltaic installers
47-2230 Solar Photovoltaic Installers
47-2231 Solar Photovoltaic Installers | 47-2111 Electricians.*
| 47-2181 Roofers.*
| 47-4099 Construction and Related Workers, All Other.*
| 49-9021 Heating, Air Conditioning, and Refrigeration Mechanics and Installers.*
| 49-9099 Installation, Maintenance, and Repair Workers, All Other.*
47-4000 Other Construction and Related Workers
47-4090 Miscellaneous Construction and Related Workers
47-4099 Construction and Related Workers, All Other | 47-4099 Construction and Related Workers, All Other.*
Except solar photovoltaic installers
49-0000 Installation, Maintenance, and Repair Occupations
49-1000 Supervisors of Installation, Maintenance, and Repair Workers
49-1010 First-Line Supervisors of Mechanics, Installers, and Repairers | 49-1010 First-Line Supervisors/Managers of Mechanics, Installers, and Repairers.
49-1011 First-Line Supervisors of Mechanics, Installers, and Repairers | 49-1011 First-Line Supervisors/Managers of Mechanics, Installers, and Repairers.
49-2021 Radio, Cellular, and Tower Equipment Installers and Repairers | 49-2021 Radio Mechanics.
49-3041 Farm Equipment Mechanics and Service Technicians | 49-3041 Farm Equipment Mechanics.
49-3051 Motorboat Mechanics and Service Technicians | 49-3051 Motorboat Mechanics.
49-9000 Other Installation, Maintenance, and Repair Occupations
49-9020 Heating, Air Conditioning, and Refrigeration Mechanics and Installers
49-9021 Heating, Air Conditioning, and Refrigeration Mechanics and Installers | 49-9021 Heating, Air Conditioning, and Refrigeration Mechanics and Installers.*
Except solar photovoltaic installers
49-9070 Maintenance and Repair Workers, General
49-9071 Maintenance and Repair Workers, General | 49-9042 Maintenance and Repair Workers, General.
49-9080 Wind Turbine Service Technicians
49-9081 Wind Turbine Service Technicians | 49-9099 Installation, Maintenance, and Repair Workers, All Other.*
49-9090 Miscellaneous Installation, Maintenance, and Repair Workers
49-9099 Installation, Maintenance, and Repair Workers, All Other | 49-9099 Installation, Maintenance, and Repair Workers, All Other.*
Except wind turbine service technicians
Except solar photovoltaic installers
51-0000 Production Workers
51-1000 Supervisors of Production Workers | 51-1000 Supervisors, Production Workers.
51-1010 First-Line Supervisors of Production and Operating Workers | 51-1010 First-Line Supervisors/Managers of Production and Operating Workers.
51-1011 First-Line Supervisors of Production and Operating Workers | 51-1011 First-Line Supervisors/Managers of Production and Operating Workers.
51-2093 Timing Device Assemblers and Adjusters | 51-2093 Timing Device Assemblers, Adjusters, and Calibrators.
51-3000 Food Processing Workers
51-3090 Miscellaneous Food Processing Workers
51-3099 Food Processing Workers, All Other | 51-9199 Production Workers, All Other.*
51-4012 Computer Numerically Controlled Machine Tool Programmers, Metal and Plastic | 51-4012 Numerical Tool and Process Control Programmers.
51-4050 Metal Furnace Operators, Tenders, Pourers, and Casters | 51-4050 Metal Furnace and Kiln Operators and Tenders.
51-4190 Miscellaneous Metal Workers and Plastic Workers | 51-4190 Miscellaneous Metalworkers and Plastic Workers.
51-4192 Layout Workers, Metal and Plastic | 51-4192 Lay-Out Workers, Metal and Plastic.
51-5100 Printing Workers | 51-5000 Printing Workers.
51-5110 Printing Workers | 51-5010 Bookbinders and Bindery Workers.
| 51-5020 Printers.
51-5111 Prepress Technicians and Workers | 51-5022 Prepress Technicians and Workers.
51-5112 Printing Press Operators | 51-5021 Job Printers.*
| 51-5023 Printing Machine Operators.
51-5113 Print Binding and Finishing Workers | 51-5011 Bindery Workers.
| 51-5012 Bookbinders.
| 51-5021 Job Printers.*
51-8030 Water and Wastewater Treatment Plant and System Operators | 51-8030 Water and Liquid Waste Treatment Plant and System Operators.
51-8031 Water and Wastewater Treatment Plant and System Operators | 51-8031 Water and Liquid Waste Treatment Plant and System Operators.
51-9000 Other Production Occupations
51-9150 Photographic Process Workers and Processing Machine Operators | 51-9130 Photographic Process Workers and Processing Machine Operators.
51-9151 Photographic Process Workers and Processing Machine Operators | 51-9131 Photographic Process Workers.
| 51-9132 Photographic Processing Machine Operators.
51-9191 Adhesive Bonding Machine Operators and Tenders | 51-9191 Cementing and Gluing Machine Operators and Tenders.
51-9190 Miscellaneous Production Workers
51-9199 Production Workers, All Other | 51-9199 Production Workers, All Other.*
Except food processing workers, all other
53-0000 Transportation and Material Moving Occupations
53-1000 Supervisors of Transportation and Material Moving Workers | 53-1000 Supervisors, Transportation and Material Moving Workers.
53-1020 First-Line Supervisors of Helpers, Laborers, and Material Movers, Hand | 53-1020 First-Line Supervisors/Managers of Helpers, Laborers, and Material Movers, Hand.
53-1021 First-Line Supervisors of Helpers, Laborers, and Material Movers, Hand | 53-1021 First-Line Supervisors/Managers of Helpers, Laborers, and Material Movers, Hand.
53-1030 First-Line Supervisors of Transportation and Material-Moving Machine and Vehicle Operators | 53-1030 First-Line Supervisors/Managers of Transportation and Material-Moving Machine and Vehicle Operators.
53-1031 First-Line Supervisors of Transportation and Material-Moving Machine and Vehicle Operators | 53-1031 First-Line Supervisors/Managers of Transportation and Material-Moving Machine and Vehicle Operators.
53-2030 Flight Attendants | 39-6030 Transportation Attendants.*
53-2031 Flight Attendants | 39-6031 Flight Attendants.
53-3022 Bus Drivers, School or Special Client | 53-3022 Bus Drivers, School.
53-3032 Heavy and Tractor-Trailer Truck Drivers | 53-3032 Truck Drivers, Heavy and Tractor-Trailer.
53-3033 Light Truck or Delivery Services Drivers | 53-3033 Truck Drivers, Light or Delivery Services.
53-6030 Automotive and Watercraft Service Attendants | 53-6030 Service Station Attendants.
53-6031 Automotive and Watercraft Service Attendants | 53-6031 Service Station Attendants.
53-6060 Transportation Attendants, Except Flight Attendants | 39-6030 Transportation Attendants.*
53-6061 Transportation Attendants, Except Flight Attendants | 39-6032 Transportation Attendants, Except Flight Attendants and Baggage Porters.
53-7110 Mine Shuttle Car Operators | 53-7110 Shuttle Car Operators.
53-7111 Mine Shuttle Car Operators | 53-7111 Shuttle Car Operators.
55-0000 Military Specific Occupations
55-1000 Military Officer Special and Tactical Operations Leaders | 55-1000 Military Officer Special and Tactical Operations Leaders/Managers.
55-1010 Military Officer Special and Tactical Operations Leaders | 55-1010 Military Officer Special and Tactical Operations Leaders/Managers.
55-1019 Military Officer Special and Tactical Operations Leaders, All Other | 55-1019 Military Officer Special and Tactical Operations Leaders/Managers, All Other.
55-2000 First-Line Enlisted Military Supervisors | 55-2000 First-Line Enlisted Military Supervisors/Managers.
55-2010 First-Line Enlisted Military Supervisors | 55-2010 First-Line Enlisted Military Supervisors/Managers.
55-2011 First-Line Supervisors of Air Crew Members | 55-2011 First-Line Supervisors/Managers of Air Crew Members.
55-2012 First-Line Supervisors of Weapons Specialists/Crew Members | 55-2012 First-Line Supervisors/Managers of Weapons Specialists/Crew Members.
55-2013 First-Line Supervisors of All Other Tactical Operations Specialists | 55-2013 First-Line Supervisors/Managers of All Other Tactical Operations Specialists.

[FR Doc. E9-1094 Filed 1-16-09; 8:45 am]

BILLING CODE 3110-01-P